DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 26, 2007.

Interested persons are invited to submit written comments regarding the subject matter of the investigations to the Director, Division of Trade Adjustment Assistance, at the address shown below, not later than February 26, 2007.

The petitions filed in this case are available for inspection at the Office of the Director, Division of Trade Adjustment Assistance, Employment and Training Administration, U.S. Department of Labor, Room C-5311, 200 Constitution Avenue, NW., Washington, DC 20210.

Signed at Washington, DC, this 8th day of February 2007.
Linda G. Poole,
Certifying Officer, Division of Trade Adjustment Assistance.

Appendix
[TAA petitions instituted between 1/29/07 and 2/2/07]
TA-W | Subject firm (petitioners) | Location | Date of institution | Date of petition
60844 | Lear Corporation—ISD Division (Comp) | Strasburg, VA | 01/29/07 | 01/26/07
60845 | Maida Development Company (Comp) | Hampton, VA | 01/29/07 | 01/26/07
60846 | M and B Metal Products Company, Inc. (Comp) | Leeds, AL | 01/29/07 | 01/26/07
60847 | Mid West Wire Products, Inc. (Comp) | Ferndale, MI | 01/29/07 | 01/22/07
60848 | WestPoint Home, Inc. (Comp) | West Point, GA | 01/29/07 | 01/27/07
60849 | C and D Technologies (CPAs), LLC (Wkrs) | Milwaukie, OR | 01/29/07 | 01/05/07
60850 | Alan White Company, Inc. (State) | Stamps, AR | 01/30/07 | 01/29/07
60851 | Mastercraft Fabrics LLC (Comp) | Cramerton, NC | 01/30/07 | 01/29/07
60852 | Rolls-Royce Energy Systems, Inc. (IAMAW) | Mount Vernon, OH | 01/30/07 | 01/29/07
60853 | Artistree (Comp) | Kernersville, NC | 01/30/07 | 01/29/07
60854 | Unifi, Inc. (Comp) | Yadkinville, NC | 01/30/07 | 01/29/07
60855 | Ixtlan Technology (Comp) | Adrian, MI | 01/30/07 | 01/15/07
60856 | Amery Technical Products, Inc. (Comp) | Amery, WI | 01/30/07 | 01/25/07
60857 | Asec Manufacturing (UAW) | Catoosa, OK | 01/30/07 | 01/22/07
60858 | Delphi Corporation (Comp) | Anderson, IN | 01/30/07 | 01/23/07
60859 | Eaton Corporation (Comp) | Phelps, NY | 01/31/07 | 01/30/07
60860 | Stabilus, Inc. (Comp) | Gastonia, NC | 01/31/07 | 01/30/07
60861 | Elastic Corporation of America, Inc. (Comp) | Columbiana, AL | 01/31/07 | 01/26/07
60862 | Springs Global, Hartwell Weaving and Yarn (Comp) | Hartwell, GA | 01/31/07 | 01/30/07
60863 | Intier Automotive (AFLCIO) | Lewisburg, TN | 01/31/07 | 01/29/07
60864 | Elcom, Inc. (Comp) | El Paso, TX | 01/31/07 | 01/29/07
60865 | Garrity Industries, Inc. (State) | Madison, CT | 01/31/07 | 01/29/07
60866 | Wolverine World Wide (Wkrs) | Rockford, MI | 01/31/07 | 01/29/07
60867 | Polymer Group, Inc.—Chicopee (Comp) | Gainesville, GA | 01/31/07 | 01/30/07
60868 | Pine Hosiery Mills, Inc. (Comp) | Star, NC | 01/31/07 | 01/30/07
60869 | International Legwear Group (Comp) | Hickory, NC | 01/31/07 | 01/30/07
60870 | Lear Corporation (Comp) | Sidney, OH | 01/31/07 | 01/25/07
60871 | Forefront Group Inc. (Wkrs) | Springfield, TN | 01/31/07 | 01/16/07
60872 | Silberline Manufacturing Co., Inc. (Comp) | Tamaqua, PA | 01/31/07 | 01/22/07
60873 | CML Innovative Technologies, Inc. (Wkrs) | Hackensack, NJ | 01/31/07 | 01/19/07
60874 | Superior Furniture Company (Wkrs) | Lowell, MI | 01/31/07 | 01/26/07
60875 | Vescom Corporation (Comp) | Hampden, ME | 01/31/07 | 01/29/07
60876 | Armstrong Wood Products Incorporated (AFLCIO) | Oneida, TN | 02/01/07 | 01/31/07
60877 | SYZYGY, Inc (Comp) | Waco, TX | 02/01/07 | 01/31/07
60878 | Kimberly-Clark Global Sales, Inc. (Comp) | Neenah, WI | 02/01/07 | 01/24/07
60879 | VIA Information Tools, Inc. (State) | Troy, MI | 02/01/07 | 01/24/07
60880 | Vantage Industries, LLC (Wkrs) | Hamilton, IN | 02/01/07 | 01/31/07
60881 | Schnadig Corporation (Comp) | Des Plaines, IL | 02/01/07 | 01/31/07
60882 | CAMACO (State) | Marianna, AR | 02/01/07 | 01/31/07
60883 | Gleason (Wkrs) | Rochester, NY | 02/01/07 | 01/23/07
60884 | C.A. Lawton Company (The) (Comp) | De Pere, WI | 02/01/07 | 01/31/07
60885 | Johnson Controls, Inc. (Comp) | Hudson, WI | 02/02/07 | 02/01/07
60886 | Liebert Corporation (Wkrs) | Irvine, CA | 02/02/07 | 01/25/07
60887 | Clayton Marcus Company—Plant #1—Bethlehem (Comp) | Hickory, NC | 02/02/07 | 02/01/07
60888 | Triplett Corporation (Wkrs) | Bluffton, OH | 02/02/07 | 02/01/07
60889 | United Technologies Corp.—Forney (Comp) | Carrollton, TX | 02/02/07 | 01/31/07
60890 | Maloney Tool and Mold, Inc. (Comp) | Meadville, PA | 02/02/07 | 01/29/07
60891 | Cheetah Chassis Corporation (Comp) | Berwick, PA | 02/02/07 | 01/29/07
60892 | Fenton Art Glass Company (USW) | Williamstown, WV | 02/02/07 | 01/31/07
60893 | Wayne Wire Air Bag Components, Inc. (Comp) | Kalkaska, MI | 02/02/07 | 02/01/07
60894 | Carpenter Company (State) | Leominster, MA | 02/02/07 | 01/31/07
60895 | General Binding Corporation (Wkrs) | Pleasant Prairie, WI | 02/02/07 | 01/30/07

[FR Doc. E7-2473 Filed 2-13-07; 8:45 am]

BILLING CODE 4510-FN-P